DEPARTMENT OF ENERGY

Federal Energy Regulatory Commission

[Docket No. RP00-382-000]

Iroquois Gas Transmission System L.P.; Notice of Fuel Calculations

July 13, 2000.

Take notice that on June 30, 2000, Iroquois Gas Transmission System L.P., (Iroquois) tendered for filing schedules with reflect calculations supporting the Measurement Variance/Fuel Use Factors utilized by Iroquois during the period January 1, 2000 through June 30, 2000.

Iroquois states that the schedules include calculations supporting each of the following three components of Iroquois' composite Measurement Variance/Fuel Use Factor:

1. Lost and unaccounted-for gas (Measurement Variance Factor);

2. Fuel use associated with the transportation of gas by others on behalf of Iroquois (Account 858 Fuel Use Factor); and

3. Fuel use associated with the transportation of gas on Iroquois' pipeline system (Account 854 Fuel Use Factor).

Iroquois states the Account 858 Fuel Use Factor was implemented effective September 1, 1993, and includes the tracking of Account No. 858 fuel effective August 20, 1993; as approved by the Commission in Docket No. RP93-8-000.

Any person desiring to be heard or to protest said filing should file a motion to intervene or a protest with the Federal Energy Regulatory Commission, 888 First Street, NE., Washington, DC 20426, in accordance with sections 385.214 or 385.211 of the Commission's Rules and Regulations. All such motions or protests must be filed on or before July 20, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-18208 Filed 7-18-00; 8:45 am]

BILLING CODE 6717-01-M